Proclamation 7610 of October 11, 2002

White Cane Safety Day, 2002

By the President of the United States of America

A Proclamation

The white cane is a powerful symbol of independence and opportunity for visually impaired persons. It is also an essential tool for increasing mobility and productivity for those who are blind as well as those who suffer from severe visual impairment. On White Cane Safety Day, our Nation renews its dedication to eliminating barriers for every disabled American, especially the blind and visually impaired.

My Administration seeks to ensure that all Americans enjoy full access to employment, education, and all the blessings of freedom. Through my “New Freedom Initiative,” we are working to provide people with disabilities more employment opportunities and increased access to new technologies for independent living. My 2003 budget for this initiative proposes $145 million for alternative transportation and innovative transportation grants that will improve accessibility to vital aspects of society including schools, jobs, and places of worship. By implementing these and other important reforms, we can make great progress towards an America where individuals are celebrated for their talents and abilities, not judged by their limitations and disabilities.

The Congress, by joint resolution (Public Law 88-628) approved on October 6, 1964, as amended, has designated October 15 of each year as “White Cane Safety Day.”

NOW, THEREFORE, I, GEORGE W. BUSH, President of the United States of America, do hereby proclaim October 15, 2002, as White Cane Safety Day. I call upon public officials, educators, librarians, and all the people of the United States to join with me in ensuring that all the benefits and privileges of life in our great Nation are available to blind and visually impaired individuals, and to observe this day with appropriate ceremonies, activities, and programs.

IN WITNESS WHEREOF, I have hereunto set my hand this eleventh day of October, in the year of our Lord two thousand two, and of the Independence of the United States of America the two hundred and twenty-seventh.

B

[FR Doc. 02-26630

Filed 10-16-02; 8:45 am]

Billing code 3195-01-P